NUCLEAR REGULATORY COMMISSION

[Docket No. 50-443]

North Atlantic Energy Service Corporation; Seabrook Station, Unit No. 1; Notice of Consideration of Approval of Transfer of Facility Operating License and Conforming Amendment, and Opportunity for a Hearing

The U.S. Nuclear Regulatory Commission (the Commission) is considering the issuance of an order under 10 CFR 50.80 approving the transfer of Facility Operating License No. NPF-86 to the extent currently held by North Atlantic Energy Service Corporation (NAESCO), as the licensed operator and a non-owner of Seabrook Station, Unit No. 1 (Seabrook Station) and by certain owners of Seabrook Station (“Selling Owners”). The transfer would be to FPL Energy Seabrook, LLC (FPLE Seabrook), an indirect, wholly owned subsidiary of FPL Energy, LLC (FPLE), which is a wholly owned subsidiary of FPL Group Capital, Inc., which, in turn, is a wholly owned subsidiary of FPL Group, Inc. (FPL Group). The Commission is also considering amending the license for administrative purposes to reflect the proposed transfer.

The following is a list of the Selling Owners who hold ownership interests in Seabrook Station and their respective interests:

Selling owners | Percent
North Atlantic Energy Service Corporation | 35.98201
The United Illuminating Company | 17.50000
Great Bay Power Corporation | 12.13240
New England Power Company | 9.95766
The Connecticut Light and Power Company | 4.05985
Canal Electric Company | 3.52317
Little Bay Power Corporation | 2.89989
New Hampshire Electric Cooperative, Inc. | 2.17391
Total Ownership Included in Sale | 88.22889

Massachusetts Municipal Wholesale Electric Company which holds a 11.59340% ownership interest, Taunton Municipal Lighting Plant which holds a 0.10034% ownership interest, and Hudson Light and Power Department which holds a 0.07737% ownership interest in Seabrook Station are not involved in the subject license transfer.

According to an application for approval filed by NAESCO on behalf of itself and the Selling Owners, FPLE Seabrook would assume title to the acquired ownership interests in the facility following approval of the proposed license transfer, and would be responsible for the operation, maintenance, and eventual decommissioning of Seabrook Station. No physical changes to the facility or operational changes are being proposed in the application.

The proposed amendment would replace references to NAESCO in the license as the operator of Seabrook Station with references to FPLE Seabrook, make changes consistent with FPLE Seabrook's acquisition of the ownership interests of the Selling Owners, and delete the Selling Owners from the license to reflect the proposed transfer.

While the application contemplates that all of the Selling Owners will eventually transfer their respective interests in the facility to FPLE Seabrook, albeit not necessarily on the same closing date, the NRC is also considering approving the application such that in the event one or more Selling Owners do not or are unable to complete their transfers, the remaining Selling Owners will be authorized nonetheless to transfer their interests to FPLE Seabrook.

Pursuant to 10 CFR 50.80, no license, or any right thereunder, shall be transferred, directly or indirectly, through transfer of control of the license, unless the Commission shall give its consent in writing. The Commission will approve an application for the transfer of a license, if the Commission determines that the proposed transferee is qualified to hold the license, and that the transfer is otherwise consistent with applicable provisions of law, regulations, and orders issued by the Commission pursuant thereto.

Before issuance of the proposed conforming license amendment, the Commission will have made findings required by the Atomic Energy Act of 1954, as amended (the Act), and the Commission's regulations.

As provided in 10 CFR 2.1315, unless otherwise determined by the Commission with regard to a specific application, the Commission has determined that any amendment to the license of a utilization facility which does no more than conform the license to reflect the transfer action involves no significant hazards consideration. No contrary determination has been made with respect to this specific license amendment application. In light of the generic determination reflected in 10 CFR 2.1315, no public comments with respect to significant hazards considerations are being solicited, notwithstanding the general comment procedures contained in 10 CFR 50.91.

The filing of requests for hearing and petitions for leave to intervene, and written comments with regard to the license transfer application, are discussed below.

By July 5, 2002, any person whose interest may be affected by the Commission's action on the application may request a hearing and, if not the applicant, may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon Mitchell S. Ross, Counsel for FPLE Seabrook, FPL Energy, LLC, Law Department, 700 Universe Boulevard, P.O. Box 14000, Juno Beach, FL 33408-0420, Phone: 561-691-7126, Fax: 561-691-7135, e-mail: Mitch_Ross@fpl.com; and William J. Quinlan, Deputy General Counsel, Northeast Utilities, P.O. Box 270, Hartford, CT 06141, Phone: 860-665-3761, Fax: 860-665-5504, e-mail: quinlwj@nu.com; the General Counsel, U.S. Nuclear Regulatory Commission, Washington, DC 20555 (e-mail address for filings regarding license transfer cases only: OGCLT@NRC.gov); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A notice granting a hearing will be published in the Federal Register and served on the parties to the hearing.

As an alternative to requests for hearing and petitions to intervene, by July 15, 2002, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the application dated May 17, 2002, available for public inspection at the Commission's Public Document Room (PDR), located at One White Flint North, 11555 Rockville Pike (first floor), Rockville, Maryland. Publicly available records will be accessible electronically from the Agencywide Documents Access and Management Systems (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737 or by e-mail to pdr@nrc.gov.

Dated at Rockville, Maryland this 5th day of June, 2002.
For the Nuclear Regulatory Commission.
Robert D. Starkey,
Project Manager, Section 2, Project Directorate I, Division of Licensing Project Management, Office of Nuclear Reactor Regulation.

[FR Doc. 02-15089 Filed 6-13-02; 8:45 am]

BILLING CODE 7590-01-P